FEDERAL COMMUNICATIONS COMMISSION

[OMB 3060-1161; FR ID 327585]

Information Collection Being Reviewed by the Federal Communications Commission Under Delegated Authority

AGENCY: Federal Communications Commission.

ACTION: Notice; request for comments.

SUMMARY: As part of its continuing effort to reduce paperwork burdens, and as required by the Paperwork Reduction Act (PRA) of 1995, the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection burden on small business concerns with fewer than 25 employees. The FCC may not conduct or sponsor a collection of information unless it displays a currently valid OMB control number. No person shall be subject to any penalty for failing to comply with a collection of information subject to the PRA that does not display a valid OMB control number.

DATES: Written PRA comments should be submitted on or before March 30, 2026. If you anticipate that you will be submitting comments but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control Number: 3060-1161.

Title: Construction requirements; Interim reports—Sections 27.14(g)-(l).

Form Number: N/A.

Type of Review: Extension of currently approved information collection.

Respondents: Business or other for-profit entities.

Number of Respondents: 200 respondents; 200 responses.

Estimated Time per Response: 15 hours.

Frequency of Response: One-time reporting requirement and on occasion reporting requirement.

Obligation to Respond: Required to obtain or retain benefits. Statutory authority for, these collections are contained in 47 U.S.C. 154, 301, 302(a), 303, 309, 332, 336, and 337 unless otherwise noted.

Total Annual Burden: 3,000 hours.

Total Annual Cost: $180,000.

Needs and Uses: The information collection requirements contained in this collection are as follows: a. 700 MHz Construction Notification—47 CFR 27.14(k). 47 CFR 27.14(k) requires certain 700 MHz licensees to file a construction notification with the Commission within 15 days of the expiration of the relevant benchmark in accordance with the provisions set forth in 47 CFR 1.946(d), demonstrating compliance with performance requirements or, if they have not met the performance requirements, a description and certification of the areas for which they are providing service. In the construction notification, a licensee must certify whether it has met the applicable performance requirement as set forth below. The licensee must file a description and certification of the areas for which it is providing service, using electronic coverage maps, supporting technical documentation and other information as the Wireless Telecommunications Bureau may prescribe by Public Notice.

47 CFR 27.14(g). 47 CFR 27.14(g) requires 700 MHz licensees holding EA authorizations for Block A in the 698-704/728-734 MHz bands (“Block A”), CMA authorizations for Block B in the 704-710/734-740 MHz bands (“Block B”), and EA authorizations for Block E in the 722-728 MHz band (“Block E”), where the results of the first auction in which licenses for such authorizations were offered satisfy the reserve price for the applicable block, to file construction notifications with the Commission within 15 days after:

(1) June 12, 2013, or the fourth anniversary of initial license grant if the initial authorization in a market is granted after June 12, 2009. In the construction notification, licensees must certify and demonstrate that they are providing signal coverage and offering service over at least 35 percent of the geographic area of each of their license authorizations.

(2) The end of the applicable license term. In the construction notification, licensees must certify and demonstrate that they are providing such service over at least 70 percent of the geographic area of each of these authorizations.

47 CFR 27.14(h). 700 MHz licensees holding REAG authorizations for Block C in the 746-757/776-787 MHz bands (“Block C”), as well as 700 MHz licensees holding REAG authorizations for Block C2 in the 752-757/782-787 MHz bands (C2), must file construction notifications with the Commission within 15 days after:

(1) June 12, 2013, or the fourth anniversary of initial license grant if the initial authorization in a market is granted after June 12, 2009. In the construction notification, licensees must certify and demonstrate that they are providing signal coverage and offering service over at least 40 percent of the population in each EA comprising the REAG license area.

(2) The end of the applicable license term. In the construction notification, licensees must certify and demonstrate that they are providing such service over at least 75 percent of the population of each of these EAs.

47 CFR 27.14(i). 700 MHz licensees holding EA authorizations for Block A, CMA authorizations for Block B, and EA authorizations for Block E where the results of the first auction in which licenses for such authorizations in Blocks A, B, and E were offered did not satisfy the reserve price for the applicable block, as well as EA authorizations for Block C1 in the 746-752/776-782 MHz bands (“Block C1”) must file construction notifications with the Commission within 15 days after:

(1) June 12, 2013, or the fourth anniversary of initial license grant if the initial authorization in a market is granted after June 12, 2009. In the construction notification, licensees must certify and demonstrate that they are providing signal coverage and offering service over at least 40 percent of the population in each license area.

(2) The end of the applicable license term. In the construction notification, licensees must certify and demonstrate that they are providing such service over at least 75 percent of the population of the areas.

47 CFR 27.14(j). 47 CFR 27.14(j) provides that, in the event that a licensee's authority to operate in an area terminates automatically for failure to comply with the applicable construction requirements identified in 47 CFR 27.14(g), (h), or (i), the unserved area will become available for relicensing to third parties. A 700 MHz licensee holding an authorization granted pursuant to the unserved area licensing procedures set forth in 47 CFR 27.14(j) must file a construction notification with the Commission within 15 days after the one-year anniversary of initial license grant. In the construction notification, a licensee must certify and demonstrate that it is providing signal coverage and offering service over 100 percent of the geographic area of the new license area.

700 MHz Interoperability Order. Pursuant to the 700 MHz Interoperability Order, the interim construction deadline for Block A and Block B licensees was extended to December 13, 2016. The 700 MHz Interoperability Order waived the interim construction requirement for certain Block A licensees due to technical issues arising from their proximity to Television Channel 51 stations. Further, the interim construction deadline for Block E was extended to March 7, 2017, and the final Block E construction deadline was moved to March 7, 2021.

b. 700 MHz Interim Reporting Requirement—47 CFR 27.14(l). Pursuant to 47 CFR 27.14(l), 700 MHz licensees with authorizations in the spectrum blocks identified above (Blocks A, B, E, C, C1 and C2), excluding any licensee that obtained its license pursuant to the procedures set forth in 47 CFR 27.14(j), must file interim reports with the Commission that provide the Commission, at a minimum, with information concerning the status of their efforts to meet the performance requirements applicable to their authorizations in such spectrum blocks and the manner in which that spectrum is being utilized.

Required Information. Licensees must identify the date the license term commenced, and provide a description of the steps the licensee has taken toward meeting its construction obligations in a timely manner, including the technology or technologies and service(s) being provided, as well as the areas within their license areas in which those services are available.

Deadlines. Pursuant to 47 CFR 27.14(l), licensees were required to file their first interim report with the Commission no later than June 12, 2011 and no sooner than 30 days prior to this date. Licensees that meet their interim construction benchmarks must file a second interim report with the Commission no later than June 12, 2016, and no sooner than 30 days prior to this date. Licensees that do not meet their interim construction benchmarks must file their second interim report no later than on June 12, 2015, and no sooner than 30 days prior to this date.

However, the 700 MHz Interoperability Order waived the second interim report requirement for Lower 700 MHz band A and B Block licensees subject to the extended interim construction benchmark deadline. The 700 MHz Interoperability Order did not waive the reporting requirement for Lower 700 MHz band A Block licensees subject to a waiver of the interim construction benchmark deadline because of Channel 51 interference protection requirements. That order also extended the deadline until March 7, 2019, for Lower 700 MHz band E Block licensees to file a second status report regarding the licensees' efforts to meet their performance requirements.

Federal Communications Commission.
Marlene Dortch,
Secretary, Office of the Secretary.

[FR Doc. 2026-01557 Filed 1-26-26; 8:45 am]

BILLING CODE 6712-01-P